FEDERAL COMMUNICATIONS COMMISSION

47 CFR Part 73

[DA 00-1959, MM Docket No. 00-152, RM-9943]

Radio Broadcasting Services; Elkhart, TX

AGENCY: Federal Communications Commission.

ACTION: Proposed rule.

SUMMARY: This document requests comments on a petition filed by Elkhart Broadcasting Company proposing the allotment of Channel 265A at Elkhart, Texas. The channel can be allotted to Elkhart in compliance with the Commission's spacing requirements at coordinates 31-34-07 NL and 95-41-52 WL. There is a site restriction 12.8 kilometers (8.0 miles) southwest of the community.

DATES: Comments must be filed on or before October 16, 2000, and reply comments on or before October 31, 2000.

ADDRESSES: Federal Communications Commission, Washington, DC 20554. In addition to filing comments with the FCC, interested parties should serve the petitioner's counsel, as follows: Mark N. Lipp, Scott C. Cinnamon, Shook Hardy & Bacon, L.L.P., 600 14th Street, NW., Suite 800, Washington, DC 20005.

FOR FURTHER INFORMATION CONTACT: Kathleen Scheuerle, Mass Media Bureau, (202) 418-2180.

SUPPLEMENTARY INFORMATION: This is a summary of the Commission's Notice of Proposed Rule Making, MM Docket No. 00-152, adopted August 16, 2000, and released August 25, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

Federal Communications Commission.
John A. Karousos,
Chief, Allocations Branch, Policy and Rules Division, Mass Media Bureau.

[FR Doc. 00-22748 Filed 9-5-00; 8:45 am]

BILLING CODE 6712-01-P